ENVIRONMENTAL PROTECTION AGENCY

[EPA-HQ-OPP-2009-1017; FRL-9909-30]

Product Cancellation Order for Certain Pesticide Registrations; Correction

AGENCY: Environmental Protection Agency (EPA).

ACTION: Notice; correction.

SUMMARY: EPA issued a notice in the Federal Register of November 20, 2013, and March 13, 2014, concerning receipt of requests to voluntarily cancel certain pesticide registrations and its follow-up cancellation order, respectively. In both notices, EPA inadvertently listed the pesticide product Treflan H.F.P. (EPA Reg. No. MN-100004). The registrant had previously withdrawn the requested voluntary cancellation for this product. Therefore, EPA is not cancelling the pesticide product Treflan H.F.P. (EPA Reg. No. MN-100004). This document removes the cancellation order for Treflan H.F.P. (EPA Reg. No. MN-100004) listed in both the November 20, 2013, and March 13, 2014, Federal Register notices.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

The Agency included in the Federal Register notices of November 20, 2013 (78 FR 69666) (FRL 9902-40) and March 13, 2014 (79 FR 14247) (FRL 9905-37) a list of those who may be potentially affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

EPA issued a notice in the Federal Register of November 20, 2013, and March 13, 2014, concerning receipt of requests to voluntarily cancel certain pesticide registrations and its follow-up cancellation order, respectively. In both notices, EPA listed the pesticide product Treflan H.F.P. (EPA Reg. No. MN-100004). However, soon after the registrant requested voluntary cancellation, the registrant notified the Agency on June 21, 2013, that it chose to withdraw the request for pesticide product Treflan H.F.P. (EPA Reg. No. MN-100004), since it had been mistakenly submitted. Therefore, EPA is not cancelling the pesticide product Treflan H.F.P. (EPA Reg. No. MN-100004). Herein this document, due to the inadvertent listing by EPA, the Agency is removing the cancellation order for Treflan H.F.P. (EPA Reg. No. MN-100004) listed in both the November 20, 2013, and March 13, 2014, Federal Register notices.

List of Subjects

Environmental protection, Pesticides and pests.

Dated: April 10, 2014.
Richard P. Keigwin, Jr.,
Director, Pesticide Re-Evaluation Division, Office of Pesticide Programs.

[FR Doc. 2014-08810 Filed 4-17-14; 8:45 am]

BILLING CODE 6560-50-P